NUCLEAR REGULATORY COMMISSION

10 CFR Parts 40, 70, 72, 74, and 150

[NRC-2009-0096 and NRC-2013-0195]

RIN 3150-AI61

Amendments to Material Control and Accounting Regulations and Proposed Guidance for Fuel Cycle Facility Material Control and Accounting Plans and Completing the U.S. Nuclear Regulatory Commission Form 327

AGENCY: Nuclear Regulatory Commission.

ACTION: Notice of public meeting on proposed rule and proposed guidance.

SUMMARY: The U.S. Nuclear Regulatory Commission (NRC) plans to hold a public meeting on its proposed rule to amend its regulations for material control and accounting (MC&A) of special nuclear material (SNM) and the proposed guidance documents that discuss acceptable methods that licensees may use to prepare and implement their MC&A plans and how the NRC will review and inspect these plans.

DATES: The public meeting will be held on December 10, 2013, from 1:00 p.m. to 5:00 p.m. (Eastern Standard Time (EST)).

ADDRESSES: The public meeting will be held at the NRC's headquarters, Room T2-B1, 11545 Rockville Pike, Rockville, Maryland 20852. Members of the public may also participate in the meeting via teleconference or Webinar. Information for the teleconference and Webinar is available in the meeting notice, which can be accessed through the NRC's public Web site at http://meetings.nrc.gov/pmns/mtg.

Please refer to Docket ID NRC-2009-0096 when contacting the NRC about the availability of information for the proposed rule, and refer to Docket ID NRC-2013-0195 when contacting the NRC about the availability of information for the draft NUREGs. You may access publicly-available information related to this action by any of the following methods:

• Federal Rulemaking Web site: Go to http://www.regulations.gov and search for Docket ID NRC-2009-0096 for information about the proposed rule and Docket ID NRC-2013-0195 for information about the draft NUREGs. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Thomas Young, Office of Federal and State Materials and Environmental Management Programs, U.S. Nuclear Regulatory Commission, Washington, DC 20555-0001; telephone: 301-415-5795; email: Thomas.Young@nrc.gov.

SUPPLEMENTARY INFORMATION:

I. Background

On November 8, 2013 (78 FR 67225; NRC-2009-0096), the NRC published for public comment a proposed rule to amend its regulations for MC&A of SNM. Also on November 8, 2013 (78 FR 67224; NRC-2013-0195), the NRC published for public comment the proposed guidance documents that discuss acceptable methods that licensees may use to prepare and implement their MC&A plans and how the NRC will review and inspect these plans. The public comment period for the proposed rule and the proposed guidance closes on February 18, 2014.

The goal of this rulemaking is to revise and consolidate the MC&A requirements in order to update, clarify, and strengthen them. The proposed amendments add new requirements that would apply to NRC licensees who are authorized to possess SNM in a quantity greater than 350 grams.

II. Public Meeting

To facilitate the understanding of the public and other stakeholders of these issues and the submission of comments, the NRC staff plans to hold a public meeting on December 10, 2013, from 1:00 p.m. to 5:00 p.m. (EST), in Rockville, Maryland. The meeting notice can be accessed through the NRC's public Web site at http://meetings.nrc.gov/pmns/mtg. The final agenda and the meeting materials will be posted no fewer than 10 days prior to the meeting at this Web site.

In addition, members of the public may also participate in the meeting via teleconference or Webinar. Information for the teleconference and Webinar is available in the meeting notice, which can be accessed through the NRC's public Web site at http://meetings.nrc.gov/pmns/mtg. Participants must register at the Internet link in the meeting notice to participate in the Webinar. To register in advance for the teleconference, please contact Thomas Young at 301-415-5795 (email: Thomas.Young@nrc.gov).

Dated at Rockville, Maryland, this 22nd day of November, 2013.
For the Nuclear Regulatory Commission.
Dehborah Jackson,
Deputy Director, Division of Intergovernmental Liaison and Rulemaking, Office of Federal and State Materials and Environmental Management Programs.

[FR Doc. 2013-28698 Filed 11-27-13; 8:45 am]

BILLING CODE 7590-01-P